DEPARTMENT OF THE INTERIOR

Fish and Wildlife Service

[FWS-R8-ES-2020-N021; FXES11140800000-201-FF08EVEN00]

Categorical Exclusion and Draft City of Santa Cruz Operations and Maintenance Habitat Conservation Plan; Santa Cruz County, California

AGENCY: Fish and Wildlife Service, Interior.

ACTION: Notice of availability; request for comments.

SUMMARY: We, the U.S. Fish and Wildlife Service, have received an application for a permit to conduct activities with the potential for take of endangered species that is incidental to, and not the purpose of, carrying out an otherwise lawful activities. With some exceptions, the Endangered Species Act prohibits certain activities that may impact endangered species unless a Federal permit allows such activity. We invite comments on this application which we will take into consideration before issuing a permit.

DATES: We will receive public comments on the draft habitat conservation plan and draft categorical exclusion screening form until October 13, 2020.

ADDRESSES: Obtaining Documents: You may download a copy of the draft habitat conservation plan and draft categorical exclusion screening form at http://www.fws.gov/ventura/ or you may request copies of the documents by U.S. mail (below) or by phone (see FOR FURTHER INFORMATION CONTACT).

Submitting Written Comments: Please send your written comments using one of the following methods:

• U.S. mail: Stephen P. Henry, Field Supervisor, Ventura Fish and Wildlife Office, U.S. Fish and Wildlife Service, 2493 Portola Road, Suite B, Ventura, CA 93003.

• Email: chad_mitcham@fws.gov.

FOR FURTHER INFORMATION CONTACT: Chad Mitcham, Biologist, by phone at 805-677-3328, via the Federal Relay Service at 1-800-877-8339 for TTY assistance, or at the Ventura address (see ADDRESSES).

SUPPLEMENTARY INFORMATION: The City of Santa Cruz (applicant) has applied to the U.S. Fish and Wildlife Service (Service) for an incidental take permit (ITP) under section 10(a)(1)(B) of the Endangered Species Act of 1973, as amended (ESA; 16 U.S.C. 1531 et seq.). The applicant is requesting an ITP with a 30-year term, for incidental take of six wildlife species likely to result from implementation of activities covered by the applicant's habitat conservation plan (HCP). The species included in the HCP are indicated in the table below. Pursuant to the National Environmental Policy Act of 1969, as amended (NEPA; 42 U.S.C. 4321 et seq.), we advise the public of the availability of the proposed HCP and our draft categorical exclusion screening form.

Common name | Scientific name | Federal status * | State status **
Invertebrates (2)
Ohlone tiger beetle | Cicindela ohlone | E
Mount Hermon June beetle | Polyphylla barbata | E
Fish (2)
Tidewater goby | Eucyclogobius newberryi | E
Pacific lamprey | Lampetra tridentata |  | SCC
Amphibians (4)
California red-legged frog | Rana draytonii | T | SSC
Reptiles (1)
Western pond turtle | Actinemys marmorata |  | SSC
Plants (4)
Ben Lomond spineflower | Chorizanthe pungens var. hartwegiana | E
Robust spineflower | Chorizanthe robusta var. robusta | E |
Santa Cruz tarplant | Holocarpha macradenia | T | E
San Francisco popcornflower | Plagiobothrys diffusus |  | E
* Federal Status: Candidate (C); Endangered (E); Threatened (T).
** State Status: Species of Special Concern (SSC); Threatened (T); Endangered (E).

Background

Section 9 of the ESA prohibits take of fish and wildlife species listed as endangered (16 U.S.C. 1538). Under section 10(a)(1)(B) of the ESA (16 U.S.C. 1539(a)(1)(B)), we may issue permits to authorize take of listed fish and wildlife species that is incidental to, and not the purpose of, carrying out an otherwise lawful activity. Regulations governing permits for endangered species are set forth in title 50 of the Code of Federal Regulations (CFR) at part 17, section 17.22.

The NEPA (42 U.S.C. 4321 et seq.) requires Federal agencies to analyze their proposed actions to determine whether the actions may significantly affect the human environment. In these NEPA analyses, the Federal agency will identify direct, indirect, and cumulative effects, as well as possible mitigation for effects on environmental resources that could occur with implementation of the proposed action and alternatives.

Public Review

If you wish to comment on the draft HCP and categorical exclusion screening form, you may submit comments by one of the methods in ADDRESSES.

Any comments we receive will become part of the decision record associated with this action. Before including your address, phone number, email address, or other personal identifying information in your comment, please be aware that your entire comment—including your personal identifying information—may be made publicly available at any time. While you can request in your comment that we withhold your personal identifying information from public review, we cannot guarantee that we will be able to do so.

Authority

We provide this notice under section 10 of the ESA (16 U.S.C. 1531 et seq.) and NEPA regulations (40 CFR 1506.6).

Stephen Henry,
Field Supervisor, Ventura Fish and Wildlife Office, Ventura, California.

[FR Doc. 2020-19938 Filed 9-9-20; 8:45 am]

BILLING CODE 4333-15-P